DEPARTMENT OF STATE

[Public Notice 3986]

Shipping Coordinating Committee; Notice of Meetings

The U.S. Shipping Coordinating Committee (SHC) will conduct a series of open meetings between June and October, 2002, to assist in refining the United States position prior to the Diplomatic Conference hosted by the International Maritime Organization (IMO) on the draft Protocol to the Athens Convention Relating to the Carriage of Passengers and Their Luggage by Sea, 1974 (draft Athens Protocol), and also to prepare for the eighty-fifth session of the Legal Committee (LEG 85). The Athens Diplomatic Conference will convene from October 21 to November 1, 2002, and LEG 85 will meet from October 22 to October 24, 2002.

The U.S. delegation to the Athens Diplomatic Conference and LEG 85 will consider views on issues raised by the draft Athens Protocol and LEG 85 as indicated below but will also allow time for discussion of other topics raised at the meetings. To submit comments in advance of the scheduled meetings, please send them via e-mail to cleonardcho@comdt.uscg.mil; via fax, attention of LT Leonard-Cho at (202) 267-4496; or via mail, Commandant (G-LMI), U.S. Coast Guard, 2100 Second St. SW., Washington, DC, 20593-0001 attention LT Leonard-Cho. Any written submissions may be posted at: https://afls16.jag.af.mil/dscgi/ds.py/View/Collection-247.

The following meeting schedule allows time for the preparation of U.S. submissions, if deemed necessary, for consideration at the Athens Diplomatic Conference and LEG 85. Each meeting will be held at U.S. Coast Guard Headquarters, 2100 Second Street SW., Washington, DC 20593-0001 in room 2415 at 10:00 a.m. The meeting dates and topics are as follows:

June 26, 2002: The focus will be on views expressed about the draft Athens Protocol liability and insurance limits, including the strict liability limit (Art. 3); the compulsory insurance amount (Art. 4bis); and the carrier's minimum limit of liability for personal injury (Art. 7).

July 31, 2002: The U.S. delegation will consider any additional comments on the draft Athens Protocol liability and compulsory insurance limits. In addition, the U.S. delegation will consider views on any issues raised by other country delegations and any issues raised by written submissions to the Coast Guard regarding the draft Athens Protocol. To date, other country delegations have indicated that they may raise the issue of removing the willful misconduct defense (Art. 4bis), and modifying the definition of defect in the ship (Art. 3).

September 5, 2002: This meeting will focus on views expressed on any other issue that arise subsequent to July 31, 2002 regarding the draft Athens Protocol. The meeting will also consider views on the LEG 85 agenda items of the draft Convention on Wreck Removal (e.g. comments on the insertion of a new cargo liability article), and Suppression of Unlawful Acts against the Safety of Maritime Navigation, 1988 (SUA Convention) and its 1988 Protocol.

October 16, 2002: This meeting will consider views on all the LEG 85 agenda items as well as the draft Athens Protocol. The provisional LEG 85 agenda includes a progress report by the SUA Convention Correspondence Group; a status update on the draft Convention on Wreck Removal; and the review of an IMO resolution on safety measures for rescue at sea. Members of the public are invited to attend the SHC meeting up to the room's seating capacity. To facilitate the building security process, those who plan to attend should call or send an e-mail two days before the meeting. Upon request, participating by phone may be an option. For further information please contact CAPT Joseph F. Ahern or LT Carolyn Leonard-Cho at cleonardcho@comdt.uscg.mil or telephone, (202) 267-1527.

Dated: May 24, 2002.
Stephen M. Miller,
Executive Secretary, Shipping Coordinating Committee, Executive Secretary, Shipping Coordinating Committee, Department of State.

[FR Doc. 02-14529 Filed 6-7-02; 8:45 am]

BILLING CODE 4710-07-P